DEPARTMENT OF TRANSPORTATION

Federal Aviation Administration

Twenty Fifth Meeting: RTCA Special Committee 216, Aeronautical Systems Security

AGENCY: Federal Aviation Administration (FAA), U.S. Department of Transportation (DOT).

ACTION: Meeting Notice of RTCA Special Committee 216, Aeronautical Systems Security.

SUMMARY: The FAA is issuing this notice to advise the public of the twenty fifth meeting of RTCA Special Committee 216, Aeronautical Systems Security.

DATES: The meeting will be held August 22, 2014 from 9:00 a.m.-5:00 p.m.

ADDRESSES: The meeting will be held at RTCA Headquarters, 1150 18th Street NW., Suite 450, Washington, DC 20036.

FOR FURTHER INFORMATION CONTACT: You may contact the RTCA Secretariat, 1150 18th Street NW., Suite 910, Washington, DC 20036, or by telephone at (202) 833-9339, fax at (202) 833-9434, or Web site http://www.rtca.org for directions.

SUPPLEMENTARY INFORMATION: Pursuant to section 10(a)(2) of the Federal Advisory Committee Act (Pub. L. 92-463, 5 U.S.C., App.), notice is hereby given for a meeting of Special Committee 216.

August 22

• Open Meeting and Introductions.

• Approve Summary—Meeting # 24, RTCA Paper No. 142-14/SC216-053.

• Status of Revised DO-326—Airworthiness Security Process Specification.

• Review/Approval—New Document—Security Assurance and Assessment Methods for Safety-related Aircraft Systems—RTCA Paper No. 143-14/SC216-054.

• EUROCAE WG-72 Report.

• Work Group Reports.

• Terms of Reference—Discussion.

• Date, Place and Time of Next Meeting.

• New Business.

• Adjourn Plenary.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on July 31, 2014.
Mohannad Dawoud,
Management Analyst, NextGen, Business Operations Group, Federal Aviation Administration.

[FR Doc. 2014-18632 Filed 8-6-14; 8:45 am]

BILLING CODE 4910-13-P